DEPARTMENT OF THE INTERIOR

Fish and Wildlife Service

50 CFR Part 20

[Docket No. FWS-HQ-MB-2014-0017]; [FF09M21200-134-FXMB1231099BPP0]

RIN 1018-AZ80

Migratory Bird Hunting; Supplemental Proposals for Migratory Game Bird Hunting Regulations for the 2014-15 Hunting Season; Notice of Meetings

AGENCY: Fish and Wildlife Service, Interior.

ACTION: Proposed rule; supplemental.

SUMMARY: We, the U.S. Fish and Wildlife Service (Service), proposed in an earlier document to establish annual hunting regulations for certain migratory game birds for the 2014-15 hunting season. This supplement to the proposed rule provides the regulatory schedule, announces the Service Migratory Bird Regulations Committee and Flyway Council meetings, and provides Flyway Council recommendations resulting from their March meetings.

DATES: Comments: You must submit comments on the proposed regulatory alternatives for the 2014-15 duck hunting seasons on or before June 27, 2014. Following subsequent Federal Register notices, you will be given an opportunity to submit comments for proposed early-season frameworks by July 29, 2014, and for proposed late-season frameworks and subsistence migratory bird seasons in Alaska by August 29, 2014.

Meetings: The Service Migratory Bird Regulations Committee will meet to consider and develop proposed regulations for early-season migratory bird hunting on June 25 and 26, 2014, and for late-season migratory bird hunting and the 2015 spring/summer migratory bird subsistence season in Alaska on July 30 and 31, 2014. All meetings will commence at approximately 8:30 a.m.

ADDRESSES: Comments: You may submit comments on the proposals by one of the following methods:

• Federal eRulemaking Portal: http://www.regulations.gov. Follow the instructions for submitting comments on Docket No. FWS-HQ-MB-2014-0017.

• U.S. mail or hand-delivery: Public Comments Processing, Attn: FWS-HQ-MB-2014-0017; Division of Policy and Directives Management; U.S. Fish and Wildlife Service; 4401 N. Fairfax Drive, MS 2042-PDM; Arlington, VA 22203.

We will not accept emailed or faxed comments. We will post all comments on http://www.regulations.gov. This generally means that we will post any personal information you provide us (see the Public Comments section below for more information).

Meetings: The Service Migratory Bird Regulations Committee will meet at the Holiday Inn Arlington at Ballston, 4610 N. Fairfax Dr., Arlington, VA.

FOR FURTHER INFORMATION CONTACT: Ron W. Kokel, U.S. Fish and Wildlife Service, Department of the Interior, MS MBSP-4107-ARLSQ, 1849 C Street NW., Washington, DC 20240; (703) 358-1714.

SUPPLEMENTARY INFORMATION:

Regulations Schedule for 2014

On April 30, 2014, we published in the Federal Register (79 FR 24512) a proposal to amend 50 CFR part 20. The proposal provided a background and overview of the migratory bird hunting regulations process, and addressed the establishment of seasons, limits, and other regulations for hunting migratory game birds under §§ 20.101 through 20.107, 20.109, and 20.110 of subpart K. This document is the second in a series of proposed, supplemental, and final rules for migratory game bird hunting regulations. We will publish proposed early-season frameworks in early July and late-season frameworks in early August. We will publish final regulatory frameworks for early seasons on or about August 15, 2014, and for late seasons on or about September 19, 2014.

Service Migratory Bird Regulations Committee Meetings

The Service Migratory Bird Regulations Committee (SRC) will meet June 25-26, 2014, to review information on the current status of migratory shore and upland game birds and develop 2014-15 migratory game bird regulations recommendations for these species, plus regulations for migratory game birds in Alaska, Puerto Rico, and the Virgin Islands. The Committee will also develop regulations recommendations for September waterfowl seasons in designated States, special sea duck seasons in the Atlantic Flyway, and extended falconry seasons. In addition, the Committee will review and discuss preliminary information on the status of waterfowl.

At the July 30-31, 2014, meetings, the Committee will review information on the current status of waterfowl and develop 2014-15 migratory game bird regulations recommendations for regular waterfowl seasons and other species and seasons not previously discussed at the early-season meetings. In addition, the Committee will develop recommendations for the 2015 spring/summer migratory bird subsistence season in Alaska.

In accordance with Departmental policy, these meetings are open to public observation. You may submit written comments to the Service on the matters discussed.

Announcement of Flyway Council Meetings

Service representatives will be present at the individual meetings of the four Flyway Councils this July. Although agendas are not yet available, these meetings usually commence at 8 a.m. on the days indicated.

Atlantic Flyway Council: July 24-25, Charleston Marriott Town Center, Charleston, WV.

Mississippi Flyway Council: July 24-25, Stoney Creek Inn, Johnston, IA.

Central Flyway Council: July 24-25, YO Ranch Hotel and Conference Center, Kerrville, TX.

Pacific Flyway Council: July 25, Provo Marriott Hotel and Conference Center, Provo, UT.

Review of Public Comments

This supplemental rulemaking describes Flyway Council recommended changes based on the preliminary proposals published in the April 30, 2014, Federal Register. We have included only those recommendations requiring either new proposals or substantial modification of the preliminary proposals and do not include recommendations that simply support or oppose preliminary proposals and provide no recommended alternatives. Our responses to some Flyway Council recommendations, but not others, are merely a clarification aid to the reader on the overall regulatory process, not a definitive response to the issue. We will publish responses to all proposals and written comments when we develop final frameworks.

We seek additional information and comments on the recommendations in this supplemental proposed rule. New proposals and modifications to previously described proposals are discussed below. Wherever possible, they are discussed under headings corresponding to the numbered items identified in the April 30 proposed rule. Only those categories requiring your attention or for which we received Flyway Council recommendations are discussed below.

1. Ducks

Duck harvest management categories are: (A) General Harvest Strategy; (B) Regulatory Alternatives, including specification of framework dates, season length, and bag limits; (C) Zones and Split Seasons; and (D) Special Seasons/Species Management.

A. General Harvest Strategy

Council Recommendations: The Mississippi Flyway Council recommended that regulations changes be restricted to one step per year, both when restricting as well as liberalizing hunting regulations.

Service Response: As we stated in the April 30 Federal Register, the final adaptive harvest management (AHM) protocol for the 2014-15 season will be detailed in the early-season proposed rule, which will be published in mid-July.

B. Regulatory Alternatives

Council Recommendations: The Mississippi and Central Flyway Councils recommended that regulatory alternatives for duck hunting seasons remain the same as those used in 2013-14.

Service Response: As we stated in the April 30 Federal Register, the final regulatory alternatives for the 2014-15 season will be detailed in the early-season proposed rule, which will be published in mid-July.

D. Special Seasons/Species Management

i. September Teal Seasons

Council Recommendations: The Mississippi Flyway Council recommended that Iowa, Minnesota, Michigan, and Wisconsin be granted special September teal hunting seasons for an experimental 3-year period beginning in September 2014. The Council recommended that the framework for these seasons follow the established teal harvest strategy (i.e., 9 or 16 days with up to 6 bird daily limits) with sunrise to sunset shooting hours. Further, they recommended that the Service work with these States to develop a mutually acceptable evaluation plan prior to June 2014. In the event that this recommendation is not approved or Iowa declines the opportunity, the Council recommended that Iowa be allowed to retain their early September duck season.

The Central Flyway Council recommended that two additional blue-winged teal be allowed in the daily duck bag for the first 16 days of the regular duck season in the production States of North and South Dakota, Montana, and Wyoming. The season would be evaluated over the first 3 years, beginning with the 2014-15 hunting season. The Council also recommended allowing an experimental September teal season in the portion of Nebraska not currently open to September teal hunting. Criteria for the experimental season would be the same as for other non-production States, and the state of Nebraska will work with the Service to develop an evaluation plan for the experiment.

ii. September Teal/Wood Duck Seasons

Council Recommendations: The Atlantic Flyway Council recommended that the daily bag limit for teal in Florida during the September teal/wood duck season be a total of 6 birds with no more than 2 wood ducks (the current total bag is 4 birds with no more than 2 wood ducks). The Council further recommended that Florida be permitted to add additional teal-only days to their September teal/wood duck season. In years when the teal harvest strategy calls for a 9-day teal season, Florida would maintain their current 5-day teal/wood duck season. In years when the teal harvest strategy calls for a 16-day teal season, Florida would add 4 additional teal-only days to their current 5-day teal/wood duck season.

The Mississippi Flyway Council recommended that the teal bag limit during Kentucky and Tennessee's September teal/wood duck seasons be the same as that permitted in other States with September teal-only seasons. The Council further recommended that States with September teal/wood duck seasons (Kentucky and Tennessee) be permitted to add additional teal-only days to their September teal/wood duck seasons. In years when the teal harvest strategy calls for a 9-day teal season, those States would maintain their current 5-day wood duck/teal season. In years when the teal harvest strategy calls for a 16-day teal season, those States would add 4 additional teal-only days to their current 5-day teal/wood duck season.

4. Canada Geese

A. Special Seasons

Council Recommendations: The Pacific Flyway Council recommended increasing the daily bag limit from 5 to 15 Canada geese in Pacific County, Washington. The Council also pointed out the need to eliminate several previously approved framework restrictions in Wyoming and Idaho.

B. Regular Seasons

Council Recommendations: The Mississippi Flyway Council recommended that the framework opening date for all species of geese for the regular goose seasons in the Lower Peninsula of Michigan and Wisconsin be September 16, 2014, and in the Upper Peninsula of Michigan be September 11, 2014.

C. Special Late Seasons

Council Recommendations: The Atlantic Flyway Council recommended that Rhode Island be approved for minor expansion of the late season hunting zone boundary for Canada geese.

9. Sandhill Cranes

Council Recommendations: The Atlantic and Mississippi Flyway Councils recommended that Kentucky be allowed a 1-year continuation of their sandhill crane season for the 2014-15 season under harvest guidelines approved for their experimental season.

The Central and Pacific Flyway Councils recommended the expansion of an existing Rocky Mountain Population (RMP) sandhill crane hunting unit in southwestern Montana (the Dillon/Twin Bridges/Cardwell hunt area to include all of Madison and Gallatin Counties). The Councils also recommended using the 2014 RMP sandhill crane harvest allocation of 676 birds as proposed in the allocation formula using the 3-year running population average for 2011-13.

16. Mourning Doves

Council Recommendations: The Atlantic and Mississippi Flyway Councils recommended use of the “standard” season framework comprised of a 90-day season and 15-bird daily bag limit for States within the Eastern Management Unit. The daily bag limit could be composed of mourning doves and white-winged doves, singly or in combination.

The Mississippi and Central Flyway Councils recommend the use of the “standard” season package of a 15-bird daily bag limit and a 70-day season for the 2014-15 mourning dove season in the States within the Central Management Unit.

The Pacific Flyway Council recommended use of the “standard” season framework for States in the Western Management Unit (WMU) population of doves. In Idaho, Nevada, Oregon, Utah, and Washington, the season length would be no more than 60 consecutive days with a daily bag limit of 15 mourning and white-winged doves in the aggregate. In Arizona and California, the season length would be no more than 60 consecutive days, which could be split between two periods, September 1-15 and November 1-January 15. In Arizona, during the first segment of the season, the daily bag limit would be 15 mourning and white-winged doves in the aggregate, of which no more than 10 could be white-winged doves. During the remainder of the season, the daily bag limit would be 15 mourning doves. In California, the daily bag limit would be 15 mourning and white-winged doves in the aggregate, of which no more than 10 could be white-winged doves.

The Atlantic, Mississippi, Central, and Pacific Flyway Councils also recommended that the Service use a 3-year running average to calculate the predicted dove abundance in the annual assessment of the status of mourning doves in support of the regulation-setting process under the dove harvest strategy beginning with the 2015-16 hunting season.

18. Alaska

Council Recommendations: The Pacific Flyway Council recommended several changes in the Alaska early season frameworks. Specifically, they recommended:

1. Splitting the “Dark Geese” framework into separate frameworks for Canada geese and white-fronted geese.

2. For both Canada geese and white-fronted geese, the basic framework for season dates, outside dates, zones, and daily bag and possession limits remains the same as it was under “Dark Geese.”

3. In Unit 18, in western Alaska, white-fronted geese daily bag and possession limits would be increased from a dark goose daily bag limit of 4 birds, 12 in possession, to a white-fronted goose daily bag limit of 8 birds, 24 in possession.

4. In Units 6C and Hawkins and Hinchinbrook Islands in 6D, if dusky Canada geese exceed the population threshold to return to Action Level 1 status (3-year average based on May 2011, 2012, and 2014 survey), then implement Action Level 1 regulations as stated in the Dusky Canada Goose Management Plan and eliminate requirements for a special permit hunt and harvest quota, but maintain possession limits at 2 times the daily bag limit.

Public Comments

The Department of the Interior's policy is, whenever practicable, to afford the public an opportunity to participate in the rulemaking process. Accordingly, we invite interested persons to submit written comments, suggestions, or recommendations regarding the proposed regulations. Before promulgation of final migratory game bird hunting regulations, we will take into consideration all comments we receive. Such comments, and any additional information we receive, may lead to final regulations that differ from these proposals.

You may submit your comments and materials concerning the proposed rule by one of the methods listed in the ADDRESSES section. We will not accept comments sent by email or fax or to an address not listed in the ADDRESSES section. Finally, we will not consider hand-delivered comments that we do not receive, or mailed comments that are not postmarked, by the date specified in the DATES section.

We will post all comments in their entirety—including your personal identifying information—on http://www.regulations.gov. Before including your address, phone number, email address, or other personal identifying information in your comment, you should be aware that your entire comment—including your personal identifying information—may be made publicly available at any time. While you can ask us in your comment to withhold your personal identifying information from public review, we cannot guarantee that we will be able to do so.

Comments and materials we receive, as well as supporting documentation we used in preparing the proposed rule, will be available for public inspection on http://www.regulations.gov, or by appointment, during normal business hours, at the U.S. Fish and Wildlife Service, Division of Migratory Bird Management, Room 4107, 4501 North Fairfax Drive, Arlington, VA 22203.

For each series of proposed rulemakings, we will establish specific comment periods. We will consider, but possibly may not respond in detail to, each comment. As in the past, we will summarize all comments we receive during the comment period and respond to them after the closing date in any final rules.

Required Determinations

Based on our most current data, we are affirming our required determinations made in the proposed rule; for descriptions of our actions to ensure compliance with the following statutes and Executive Orders, see our April 30, 2014, proposed rule (79 FR 24512):

• National Environmental Policy Act;

• Endangered Species Act;

• Regulatory Planning and Review;

• Regulatory Flexibility Act;

• Small Business Regulatory Enforcement Fairness Act;

• Paperwork Reduction Act;

• Unfunded Mandates Reform Act;

• Executive Orders 12630, 12988, 13175, 13132, and 13211.

List of Subjects in 50 CFR Part 20

Exports, Hunting, Imports, Reporting and recordkeeping requirements, Transportation, Wildlife.

Authority

The rules that eventually will be promulgated for the 2014-15 hunting season are authorized under 16 U.S.C. 703-711, 16 U.S.C. 712, and 16 U.S.C. 742 a-j.

Dated: May 21, 2014.
Rachel Jacobson,
Principal Deputy Assistant Secretary for Fish and Wildlife and Parks.

[FR Doc. 2014-12825 Filed 6-3-14; 8:45 am]

BILLING CODE 4310-55-P